DEPARTMENT OF STATE

[Public Notice: 12755]

Notice of Determinations; Additional Culturally Significant Object Being Imported for Exhibition—Determinations: “Man Ray: When Objects Dream” Exhibition

SUMMARY: On August 27, 2024, notice was published in the Federal Register of determinations pertaining to certain objects to be imported for temporary conservation, storage, and display in an exhibition entitled “Man Ray: When Objects Dream.” On May 27, 2025, notice was published in the Federal Register of determinations pertaining to certain additional objects to be imported for temporary display in the aforesaid exhibition. Notice is hereby given of the following determinations: I hereby determine that a certain additional object being imported from abroad pursuant to an agreement with its foreign owner or custodian for temporary display in the aforesaid exhibition at The Metropolitan Museum of Art, New York, New York, and at possible additional exhibitions or venues yet to be determined, is of cultural significance, and, further, that its temporary exhibition or display within the United States as aforementioned is in the national interest. I have ordered that Public Notice of these determinations be published in the Federal Register.

FOR FURTHER INFORMATION CONTACT: Reed Liriano, Program Coordinator, Office of the Legal Adviser, U.S. Department of State (telephone: 202-632-6471; email: section2459@state.gov). The mailing address is U.S. Department of State, L/PD, 2200 C Street NW (SA-5), Suite 5H03, Washington, DC 20522-0505.

SUPPLEMENTARY INFORMATION: The foregoing determinations were made pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236-3 of August 28, 2000, and Delegation of Authority No. and 574 of March 4, 2025. The notice of determinations published on August 27, 2024, appears at 89 FR 68698, and the notice of determinations published on May 27, 2025, appears at 90 FR 22436.

Mary C. Miner,
Managing Director for Professional and Cultural Exchanges, Bureau of Educational and Cultural Affairs, Department of State.

[FR Doc. 2025-11853 Filed 6-26-25; 8:45 am]

BILLING CODE 4710-05-P